DEPARTMENT OF AGRICULTURE

Submission for OMB Review; Comment Request

July 31, 2014.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by September 5, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: 7 CFR Part 54—Meats, Prepared Meats, and Meat Products (Grading, Certification, and Standards) and 7 CFR Part 62 Quality Systems Verification Programs (QSVP).

OMB Control Number: 0581-0124.

Summary of Collection: The Agricultural Marketing Act of 1946, as amended, authorizes the Secretary of Agriculture to provide consumers with voluntary Federal meat grading and certification services that facilitate the marketing of meat and meat products. This is accomplished by providing meat and meat products that are uniform in quality. The Meat Grading and Certification (MGC) Branch provides these services under the authority of 7 CFR Part 54—Meats, Prepared Meats, and Meat Products (Grading, Certification, and Standards). The Agricultural Marketing Service (AMS) will collect information using forms LS-313 and LS-315.

The Quality Systems Verification Programs are a collection of voluntary, audit-based, user-fee programs that allow applicants to have program documentation and program processes assessed by AMS auditors and other USDA officials. The QSVP are user-fees based on the approved hourly rate established under 7 CFR, Part 62.

Need and Use of the Information: The information AMS collects on LS-313, “Application for Service,” and LS-315, “Application for Commitment Grading or Certification Service” will enable the Agency to identify the responsible authorities in establishments requesting services and to initiate billing and collection accounts. A signed LS-313 or LS-315 form serves as a legal agreement between USDA users of the services, assures payment for services provided, and constitutes authorization for any employee of AMS to enter the establishment for the purpose of performing official functions under the regulations. Without a properly signed and approved form, AMS officials would not have the authority to enter the premises to provide grading and/or certification services.

Description of Respondents: Business or other for-profit; Farms.

Number of Respondents: 83.

Frequency of Responses: Reporting: On occasion.

Total Burden Hours: 1,330.

Agricultural Marketing Service

Title: Child Nutrition Labeling Program.

OMB Control Number: 0581-0261.

Summary of Collection: The Child Nutrition Labeling Program is a voluntary technical assistance program administered by the Agricultural Marketing Service (AMS). The program is designed to aid schools and institutions participating in the National School Lunch Program, the School Breakfast Program, the Child and Adult Care Food Program, and the Summer Food Service Program by, determining the contribution a commercial product makes towards the meal pattern requirements. Legislative authority for the programs is covered under The National School Lunch Act (NSLA); Public Law 90-302 enacted in 1968 amended the NSLA establishing the Special Food Service Program for Children. In 1975 Congress separated the Child Care Food Program and Summer Food Service components of the SFAPFC and provided each with legislative authorization.

The Child Nutrition Labeling Program is implemented in conjunction with existing label approval programs administered by the Food Safety and Inspection Service (FSIS), and the U.S. Department of Commerce (DoC). To participate in the CN Labeling Program, industry submits labels to AMS of products that are in conformance with the FSIS label approval program (for meat and poultry), and the DoC label approval program (for seafood products).

Need and Use of the Information: AMS uses the information collected to aid school food authorities and other institutions participating in child nutrition programs in determining the contribution a commercial product makes towards the established meal pattern requirements. AMS uses all of the collected information to give the submitted label an approval status that indicates if the label can be used as part of the CN Labeling Program. Without the information CN Labeling Program would have no basis on which to determine how or if a product meets the meal pattern requirements.

Description of Respondents: Business or other for-profit.

Number of Respondents: 202.

Frequency of Responses: Reporting: Other (as needed).

Total Burden Hours: 758.

Agricultural Marketing Service

Title: Local Food Promotion Program.

OMB Control Number: 0581-0287.

Summary of Collection: The Agriculture Act of 2014 (Pub. L. 113-79) (2014 Farm Bill) amended the Farmer-to-Consumer Direct Marketing Act of 1976 (7 U.S.C. 3005) by expanding and renaming the Farmers' Market Promotion Program (FMPP) to Farmers' Market and Local Food Promotion Program (FMLFPP). The amended program will now include funding opportunities for projects that develop, improve, and expand local and regional food business enterprises that process, distribute, aggregate or store locally or regionally produced food products. A burden is being imposed on eligible entities that apply to and are awarded under the Local Food component of the FMLFPP. Approximately $15 million will be made available for local and regional food business enterprise projects under the Local Food Promotion Program (LFPP).

Need and Use of the Information: Two types of applications will be accepted under LFPP. The first type of application will be for planning grants and the second type will be for implementation grants. All forms must be submitted electronically via the Grants.gov Web site. Eligible entities for grants under LFPP include: Agricultural cooperatives, producer networks, producer associations, community supported agriculture networks, community supported agriculture associations, and other agricultural business entities (for profit groups); non-profit corporations; public benefit corporations; economic development corporations; regional farmers' market authorities; and local and Tribal governments. Without the required information, Agricultural Marketing Service will not be able to review, award, reimburse, or monitor grants to eligible applicants.

Description of Respondents: Business or other for-profit; Not-for-profit and State, Local and Tribal Government.

Number of Respondents: 1,500.

Frequency of Responses: Annually.

Total Burden Hours: 34,988.

Agricultural Marketing Service

Title: National Organic Program; Organic Certification Cost-Share Programs.

OMB Control Number: 0581-0288.

Summary of Collection: The National Organic Certification Cost Share Program (NOCCSP) is authorized under section 10606(d)(1) of the Farm Security and Rural Investment Act of 2002 (7 U.S.C. 7901 note), as amended by section 10004(c) of the Agriculture Act of 2014 (2014 Farm Bill: Pub. L. 113-79). Under this authority, USDA is authorized to provide organic certification cost-share assistance through 50 States, the District of Columbia, and five U.S. Territories. Collection requirements are applied only to those State Departments of Agriculture and organic producers and handlers who voluntarily participate in one of two organic certification cost-share programs: The NOCCSP or the Agricultural Management Assistance (AMA) Organic Certification Cost-Share Program. To prevent duplicate assistance payments, producers participating in the AMS program are not eligible to participate in the producer portion of the NOCCSP.

Need and Use of the Information: The information collection requirements in this request are applied only to those state agencies and organic producers and handlers who voluntarily participate in one of these programs for Fiscal Years 2014 to 2018. Each program provides cost-share assistance, through participating state agencies, to organic producers and, in the case of NOCCSP, to organic handlers. Recipients must receive initial certification or continuation of certification to the USDA organic regulations (7 CFR part 205) from a USDA-accredited certifying agent. The information collected from respondents is needed to ensure that program recipients are eligible for funding and comply with applicable program regulations.

Description of Respondents: State, Local and Tribal Government; Business or other for-profit; Not-for-profit.

Number of Respondents: 12,056.

Frequency of Responses:

Total Burden Hours: 16,592.

Charlene Parker,
Departmental Information Collection Clearance Officer.

[FR Doc. 2014-18603 Filed 8-5-14; 8:45 am]

BILLING CODE 3410-02-P